DEPARTMENT OF COMMERCE

National Oceanic and Atmospheric Administration

[RTID 0648-XC179]

Marine Mammals; File No. 26667

AGENCY: National Marine Fisheries Service (NMFS), National Oceanic and Atmospheric Administration (NOAA), Commerce.

ACTION: Notice; receipt of application.

SUMMARY: Notice is hereby given that the North Slope Borough Department of Wildlife Management (Taqulik Hepa, Responsible Party), P.O. Box 69, Barrow, AK 99723 has applied in due form for a permit to receive, import, and export marine mammal parts for scientific research.

DATES: Written, telefaxed, or email comments must be received on or before August 22, 2022.

ADDRESSES: The application and related documents are available for review by selecting “Records Open for Public Comment” from the “Features” box on the Applications and Permits for Protected Species (APPS) home page, https://apps.nmfs.noaa.gov, and then selecting File No. 26667 from the list of available applications. These documents are also available upon written request via email to NMFS.Pr1Comments@noaa.gov.

Written comments on this application should be submitted via email to NMFS.Pr1Comments@noaa.gov. Please include File No. 26667 in the subject line of the email comment.

Those individuals requesting a public hearing should submit a written request via email to NMFS.Pr1Comments@noaa.gov. The request should set forth the specific reasons why a hearing on this application would be appropriate.

FOR FURTHER INFORMATION CONTACT: Jennifer Skidmore or Shasta McClenahan, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222 through 226).

The applicant proposes to collect, receive, import, and export biological samples from pinnipeds and cetaceans annually worldwide for scientific research. Pinniped samples may include up to 100 each of bearded (Erignathus barbatus) and ringed (Phoca hispida), 50 spotted (P. larga), and 25 ribbon (Histriophoca fasciata) seals. Cetacean samples may include up to 10 harbor porpoise (Phocoena phocoena), and 100 beluga (Delphinapterus leucas), 80 bowhead (Balaena mysticetus), 10 minke (Balaenoptera acutorostrata), and 20 gray (Eschrichtius robustus) whales. The primary source of samples will be subsistence harvested marine mammals in Alaska; however, additional sources of samples may include foreign subsistence harvests, marine mammal strandings in foreign countries, and other foreign and domestic authorized researchers. The requested duration of the permit is 5 years.

In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of the application to the Marine Mammal Commission and its Committee of Scientific Advisors.

Dated: July 14, 2022.
Amy Sloan,
Acting Chief, Permits and Conservation Division, Office of Protected Resources, National Marine Fisheries Service.

[FR Doc. 2022-15574 Filed 7-20-22; 8:45 am]

BILLING CODE 3510-22-P